DEPARTMENT OF COMMERCE

Foreign-Trade Zones Board

[B-23-2024]

Foreign-Trade Zone (FTZ) 207, Notification of Proposed Production Activity; Voestalpine High Performance Metals LLC; (Wire Rod), South Boston, Virginia

Voestalpine High Performance Metals LLC (voestalpine) submitted a notification of proposed production activity to the FTZ Board (the Board) for its facility in South Boston, Virginia within Subzone 207E. The notification conforming to the requirements of the Board's regulations (15 CFR 400.22) was received on May 15, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: wire rod (duty rate ranges from 2.6 to 3%).

The proposed foreign-status materials/components include: hot and cold formed wire (duty rate ranges from 2.5 to 3%). The request indicates that certain materials/components may be subject to duties under section 232 of the Trade Expansion Act of 1962 (section 232) and section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is July 1, 2024.

A copy of the notification will be available for public inspection in the “Online FTZ Information System” section of the Board's website.

For further information, contact Kolade Osho at Kolade.Osho@trade.gov.

Dated: May 17, 2024.
Elizabeth Whiteman,
Executive Secretary.

[FR Doc. 2024-11220 Filed 5-21-24; 8:45 am]

BILLING CODE 3510-DS-P